DEPARTMENT OF LABOR

Employment and Training Administration

[TA-W-42,207]

Xerox Corporation, (SOHO) Small Office/Home Office Division, Canandaigua, New York; Notice of Termination of Investigation

Pursuant to section 221 of the Trade Act of 1974, an investigation was initiated on September 30, 2002 in response to a petition filed on the same date by UNITE, Rochester Regional Joint Board, on behalf of workers at Xerox Corporation, Canandaigua, New York.

A negative determination applicable to the petitioning group of workers was issued on March 8, 2002 (TA-W-40,405). No new information or change in circumstances is evident which would result in a reversal of the Department's previous determination. Consequently, further investigation in this case would serve no purpose, and the investigation has been terminated.

Signed in Washington, DC, this 4th day of November, 2001.
Richard Church,
Certifying Officer, Division of Trade Adjustment Assistance.

[FR Doc. 02-29639 Filed 11-20-02; 8:45 am]

BILLING CODE 4510-30-P